DEPARTMENT OF HOUSING AND URBAN DEVELOPMENT

24 CFR Part 3280

[Docket No. FR-4886-C-03]

RIN 2502-AI12

Manufactured Home Construction and Safety Standards Technical Correction

AGENCY: Office of the Assistant Secretary for Housing—Federal Housing Commissioner, HUD.

ACTION: Final rule; technical correction.

SUMMARY: On November 30, 2005, HUD published a final rule amending the Federal Manufactured Home Construction and Safety Standards (the Construction and Safety Standards). This document makes a number of technical corrections to the November 30, 2005, final rule.

DATES: Effective Date: The final rule effective date of May 30, 2006, and the incorporation by reference date of May 30, 2006, as approved by the Director of the Federal Register, continue to apply.

FOR FURTHER INFORMATION CONTACT: William W. Matchneer III, Associate Deputy Assistant Secretary, Office of Regulatory Affairs and Manufactured Housing, Department of Housing and Urban Development, 451 Seventh Street, SW., Room 9162, Washington, DC 20410; telephone (202) 708-6401 (this is not a toll-free number). Persons with hearing or speech impairments may access this number via TTY by calling the toll-free Federal Information Relay Service at (800) 877-8389.

SUPPLEMENTARY INFORMATION: On November 30, 2005 (70 FR 72024), HUD published a final rule to amend the Construction and Safety Standards. The final rule, at 24 CFR 3280.305 and 3280.504, included listings of counties subject to those sections. This document makes editorial corrections to those listings, for example, to include counties inadvertently omitted.

Specifically, in the table of states and counties deemed to be within the Middle Roof Load Zone under § 3280.305(c)(3)(i)(B), “Crawford” is removed from the list of counties for Iowa and added to the list of counties for Michigan; “St. Croix” is removed from the list of counties for Minnesota and added to the list of counties for Wisconsin; “Doon” in the list of counties for Wisconsin is corrected to read “Door;” “Mackinaw” in the list of counties for Michigan is corrected to read “Mackinac;” and Coos, Grafton, Carroll, Chitten, Bellnap, Strafford, Merrimack, Sullivan, Rockingham, Hillsborough, and Chesire are deleted from the list of counties for New Hampshire and are replaced by the phrase, “All Counties.”

In addition, this document makes two conforming corrections in § 3280.801 to references to the edition of the National Electrical Code adopted by the November 30, 2005, final rule.

Accordingly, FR Doc. 05-23387, Manufactured Home Construction and Safety Standards, (FR-4663-N-02), published in the Federal Register on November 30, 2005 (70 FR 72024), is corrected as follows:

§ 3280.305 [Amended]

1. On pages 72044 and 72045, the table of states and counties deemed to be within the Middle Roof Load Zone under § 3280.305(c)(3)(i)(B), is revised to read as follows:

States | Counties |  |  |
South Dakota | Grant | Brookings | Hanson | Lincoln
| Codington | Miner | Minnehaha | Yankton
| Deuel | Lake | Hutchinson | Union
| Hamlin | Moody | Turner | Clay
| Kingsbury | McCook
Minnesota | Koochiching | Stearns | Renville | Sibley
| Itasca | Swift | McLeod | Nicollet
| Hubbard | Kandiyohi | Carver | Blue Earth
| Cass | Meeker | Dakota | Martin
| Crow Wing | Wright | Goodhue | Watonwan
| Aitkin | Lac qui Parle | Wabasha | Brown
| St. Louis | Chippewa | Winona | Redwood
| Lake | Yellow Medicine | Fillmore | Lyon
| Cook | Mille Lacs | Mower | Lincoln
| Carlton | Kanabec | Olmsted | Pipestone
| Pine | Benton | Dodge | Murray
| Wadena | Isanti | Rice | Cottonwood
| Todd | Sherburne | Steele | Jackson
| Morrison | Anoka | Freeborn | Nobles
| Douglas | Chisapo | Faribault | Rock
| Grant | Washington | Waseca
| Stevens | Hennepin | Le Sueur
| Pope | Ramsey | Scott
Iowa | Hancock | Mitchell | Hamilton | Buena Vista
| Lyon | Howard | Webster | Cherokee
| Osceola | Chickasaw | Calhoun | Plymouth
| Dickinson | Butler | Sac | Sioux
| Emmet | Floyd | Ida | O'Brien
| Kossuth | Cerro Gordo | Humboldt | Clay
| Winnebago | Franklin | Pocahontas | Wright
| Worth | Hardin | Palo Alto
Wisconsin | Douglas | Oconto | Pepin | Lincoln
| Bayfield | Menominee | Pierce | Oneida
| Ashland | Langlade | Dunn | Polk
| Iron | Marathon | Eau Claire | Burnett
| Vilas | Clark | Chippewa | Washburn
| Forest | Jackson | Rusk | Sawyer
| Florence | Trempealeau | Barron | Price
| Marinette | Buffalo | Taylor | Door
| St. Croix
Michigan | Houghton | Iron | Presque Isle | Wexford
| Baraga | Dickinson | Charlevoix | Benzie
| Marquette | Menominee | Montmorency | Grand Traverse
| Alger | Delta | Alpena | Kalkaska
| Luce | Schoolcraft | Alcona | Oscoda
| Chippewa | Mackinac | Ogemaw | Otsego
| Keweenaw | Cheyboygan | Roscommon | Leelanau
| Ontonagon | Emmet | Missaukee | Antrim
| Gogebic | Crawford
New York | St. Lawrence | Herkimer | Onondaga | Genesee
| Franklin | Lewis | Madison | Orleans
| Clinton | Oswego | Cayuga | Niagara
| Essex | Jefferson | Seneca | Erie
| Hamilton | Oneida | Wayne | Wyoming
| Warren | Fulton | Ontario | Monroe
| Saratoga | Montgomery | Yates
| Washington | Schenectady | Livingston
Massachusetts | Essex
Maine | Franklin | Kennebec | Lincoln | Cumberland
| Oxford | Androscoggin | Sagadahoc | York
Montana | All Counties
Idaho | All Counties
Colorado | All Counties
Wyoming | All Counties
Utah | All Counties
Vermont | Franklin | Orleans | Caledonia | Addison
| Grand Isle | Essex | Washington | Rutland
| Lamoille | Chittenden | Orange | Windsor
New Hampshire | All Counties

§ 3280.504 [Amended]

2. On page 72047, in the second column, add “Marion” in alphabetical order to the list of counties under the heading “Mississippi” in § 3280.504(b)(5).

§ 3280.607 [Amended]

3. On page 72049, in the second column, revise § 3280.607(c)(6)(iv) to read as follows: “(iv) Electrical. Wiring must comply with Articles 680.70, 680.71, and 680.72 of the National Electrical Code, NFPA No. 70-2005.”

§ 3280.801 [Amended]

4. On page 72051, in the second column, revise § 3280.801(a) to read as follows: “(a) Subpart I of this part and Part II of Article 550 of the National Electrical Code (NFPA No. 70-2005) cover the electrical conductors and equipment installed within or on manufactured homes and the conductors that connect manufactured homes to a supply of electricity.”

5. On page 72051, in the second column, revise the first sentence of § 3280.801(b) to read as follows: “(b) In addition to the requirements of this part and Part II of Article 550 of the National Electrical Code (NFPA No. 70-2005), the applicable portions of other Articles of the National Electrical Code must be followed for electrical installations in manufactured homes.”

Dated: April 6, 2006.
Brian D. Montgomery,
Assistant Secretary for Housing, Federal Housing Commissioner.

[FR Doc. 06-3646 Filed 4-14-06; 8:45 am]

BILLING CODE 4210-67-P